DEPARTMENT OF THE INTERIOR

Bureau of Indian Affairs

[167 A2100DD/AAKC001030/A0A501010.999900]

Gila River Indian Community; Amendments to Alcoholic Beverages Ordinance

AGENCY: Bureau of Indian Affairs, Interior.

ACTION: Notice.

SUMMARY: This notice publishes two comprehensive amendments to the Gila River Indian Community's Title 14 Alcoholic Beverages Ordinance. This Ordinance amends and supersedes the existing Gila River Indian Community Control Ordinance, Ordinance No. GR-03-05, enacted by the Gila River Indian Community Council in 2005.

DATES: This ordinance shall become effective 30 days after November 27, 2015.

FOR FURTHER INFORMATION CONTACT:

Ms. Sharlot Johnson, Tribal Government Services Officer, Western Regional Office, Bureau of Indian Affairs, 2600 North Central Avenue, Phoenix, AZ 85004, Telephone: (602) 379-6786, Fax: (602) 379-4100; or

Ms. Laurel Iron Cloud, Chief, Division of Tribal Government Services, Office of Indian Services, Bureau of Indian Affairs, 1849 C Street NW., MS-4513-MIB, Washington, DC 20240, Telephone: (202) 513-7641.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor control ordinances for the purpose of regulating liquor transactions in Indian country. On October 7, 2009, the Gila River Indian Community Council duly adopted the amendments to the Community's Title 14—Alcoholic Beverages Ordinance by Ordinance GR-15-09. On January 7, 2015, the Gila River Indian Community Council duly adopted additional amendments to the Community's Title 14—Alcoholic Beverages Ordinance by Ordinance GR-01-15. This Federal Register Notice comprehensively amends and supersedes the existing Gila River Indian Community Control Ordinance, Ordinance No. GR-03-05, enacted by the Gila River Indian Community Council, which was published in the Federal Register on November 9, 2005 (70 FR 68071).

This notice is published in accordance with the authority delegated by the Secretary of the Interior to the Assistant Secretary—Indian Affairs. I certify that the Gila River Indian Community Council of the Gila River Indian Community duly adopted these amendments to the Community's Title 14—Alcoholic Beverages Ordinance on October 7, 2009 and January 7, 2015.

Dated: November 17, 2015.
Kevin Washburn,
Assistant Secretary—Indian Affairs.

The Gila River Indian Community's Title 14—Alcoholic Beverages Ordinance, as amended, shall read as follows:

TITLE 14

ALCOHOLIC BEVERAGES

Chapter 1. Legalizing Alcoholic Beverages

14.101. Permission to Introduce, Possess, Store and Sell Alcoholic Beverages.

14.102. Definitions.

Chapter 2. Jurisdiction, Licensing, and Exemptions

14.201. Jurisdiction of Community Court.

14.202. Liquor License Applications.

14.203. Scope of Liquor License.

14.204. Transfer of Liquor License.

14.205. Expiration of Liquor License.

14.206. Exemptions from License Requirement.

Chapter 3. License Fees

14.301. Disposition of License Fees and Fines.

14.302. Fees for Liquor License.

Chapter 4. Alcohol Regulation

14.401. Registration of Stills.

14.402. Close of Business.

14.403. Change of Business or Trade Name; Permission Required.

14.404. Liquor Containers.

14.405. Licensee Recordkeeping Requirements.

14.406. Emergency Closing of Premises.

14.407. Disclosure of Interest in Liquor License; Requirements.

14.408. Unlawful Acts.

Chapter 5. Violations, Appeals and License Proceedings

14.501. Violations; Penalties; Revocation.

14.502. Appeal.

14.503. Effect of Suspension or Revocation of State License.

14.504. Effective Date.

CHAPTER 1. LEGALIZING ALCOHOLIC BEVERAGES

14.101. Permission to Introduce, Possess, Store and Sell Alcoholic Beverages.

Members of the Gila River Indian Community and other persons are hereby authorized to introduce, possess, store and sell alcoholic beverages in accordance with all Community ordinances, rules, and regulations, and state and federal law to the extent they apply. Such possession, storage, and sale is permitted in these enumerated situations:

A. Possession of alcoholic beverages is permitted throughout the Gila River Indian Reservation.

B. Locations for Introduction, Storage and Sale of Alcoholic Beverages. The introduction, storage, and sale of alcoholic beverages is permitted upon application to and approval by the Gila River Indian Community Council, as further described in section 14.202 of this title. Such permission shall apply to a corridor extending one-half mile on either side of centerline of Interstate 10, where it crosses the Reservation, and in the following areas: parcels within Township 2 South, Range 4 East of the Gila and Salt River Base and Meridian, a part of the Gila River Indian Reservation located in Arizona.

1. More Particularly: The True Point of Beginning at a point of the North line of said Township 2 South, Range 4 East on the centerline of Interstate 10, thence westerly on said Township line to a Point on a line which is one-half mile westerly and parallel to the Interstate 10 centerline, thence southerly on said one-half mile line to a point on the centerline of the Broad acres Canal, thence southwesterly on said canal centerline to the North-South midsection line of Section 6, Township 2 South, Range 4 East, thence south on the midsection lines of Sections 6, 7 and 18 to the center point of Section 18, Township 2 South, Range 4 East, thence easterly on the East-West midsection lines of Sections 18, 17 and 16 to the centerline of said Interstate 10, thence northwesterly along said centerline to the North line of said Township 2 South, Range 4 East, the true Point of Beginning;

2. Together With: A parcel of which the True Point of Beginning is the Northeast corner of Section 4, of said Township 2 South, Range 4 East, thence westerly on the North line of Township 2 South, Range 4 East, to the Easterly right-of-way line of Interstate 10, thence southeasterly on said right-of-way line to the south section line of Section 9, Township 2 South, Range 4 East, thence east on said Section 9 south section line to the southeast corner of Section 9, thence northerly on the east section lines of Section 9 and Section 4, Township 2 South, Range 4 East to the True Point of Beginning;

3. Also Together With: The property as described within the Memorial Airport lease, all in Township 2 South, Range 4 East of the Gila and Salt River Base and Meridian, to wit:

Section 14

SW1/4

Section 15

S1/2, NE1/4

SE1/4, NW1/4

NE1/4/SW1/4

SE1/4

Section 22

N1/2, NE1/4, NE1/4

Section 23

NE1/4

NW1/4, NW1/4

N1/2, N1/2, SW1/4, NW1/4

E1/2, NW1/4

N1/2, N1/2, NE1/4, SW1/4

NW1/4, SE1/4

N1/2, N1/2, SW1/4, SE1/4

E1/2, SE1/4

Section 24

NE1/4, NE1/4

W1/2, NE1/4

N1/2, N1/2, SE1/4, SE1/4

NW1/4

N1/2, SW1/4

SW1/4, SW1/4

N1/2, N1/2, SE1/4, SW1/4

N1/2, N1/2, NW1/4, SE1/4

4. Also together with: A parcel of land commonly referred to as the “Wild Horse Pass Development Area”, situated within the SE1/4 of the SE1/4 of Section 1, the E1/2 of the NE1/4 and SE1/4 of Section 12, NE1/4 of the NE1/4 of Section 13, Township 2 South, Range 3 East, the S1/2 of the SW1/4 of Section 5, the S1/2 of the SW1/4 and SE1/4 of Section 6, all of Section 7, W1/2 of Section 8, N1/2 of the NW1/4 of Section 17, N1/2 of the NW1/4 and NE1/4 of Section 18, Township 2 South, Range 4 East of the Gila and Salt River and Base and Meridian.

C. Introduction, Storage, Sale of Alcoholic Beverages at Other Locations. The introduction, storage, and sale of alcoholic beverages on any part of the Reservation other than in the areas described in Subsection 14.101.B is permitted upon application to and approval by the Gila River Indian Community Council as further described in section 14.202; provided that the council shall not approve the application until the affected District has voted to recommended approval of the application. The vote described in this paragraph shall occur at a regular meeting of the affected District, and shall require the Community members residing in the affected District, who are present and vote at such regular meeting, to recommend approval of the application by majority vote.

D. The Gila River Indian Community Council may adopt further resolutions as may be necessary to implement this title.

14.102. Definitions.

A. In this title, unless the context otherwise requires:

1. Beer means any beverage obtained by the alcoholic fermentation, infusion, or decoction of barley malt, hops, or other ingredients not drinkable, or any combination thereof.

2. Broken package means any container of spirituous liquor on which the United States tax seal has been broken or removed, or from which the cap, cork, or seal placed thereupon by the manufacturer has been removed.

3. Club includes any of the following organizations where the sale of spirituous liquor for consumption on the premises is made to members only:

a. A post, chapter, camp, or other local unit composed solely of veterans and its duly recognized auxiliary which has been chartered by the Congress of the United States for patriotic, fraternal, or benevolent purposes and which has, as the owner, lessee, or occupant, operated an establishment for that purpose within the Reservation.

b. A chapter, aerie, parlor, lodge, or other local unit of an American national fraternal organization which has as the owner, lessee or occupant operated an establishment for fraternal purposes within the Reservation. An American national fraternal organization as used in this subdivision shall actively operate in not less than 36 states or have been in active continuous existence for not less than 20 years.

c. A hall or building association of a local unit mentioned in subdivisions 1 and 2 of this paragraph, all of the capital stock of which is owned by the local unit or the members, and which operates the clubroom facilities of the local unit.

d. A golf club which has more than 50 bona fide members which owns, maintains, or operates a bona fide golf links together with a clubhouse. A social club which has more than 50 bona fide members who are actual residents of the county in which it is located, that owns, maintains or operates club quarters, is authorized and incorporated to operate as a non-profit club under the laws of this Community, and has been continuously incorporated and operating for a period of not less than one year. The club shall have had, during this one-year period, a bona fide membership with regular meetings conducted at least once each month and the membership shall be and shall have been actively engaged in carrying out the objectives of the club. The club's membership shall consist of bona fide dues paying members paying at least $6.00 per year, payable monthly, quarterly, or annually, which have been recorded by the secretary of the club, and the members at the time of application for a club license shall be in good standing having for at least one full year paid dues. At least 51 percent of the members shall have signified their intention to secure a social club license by personally signing a petition, on a form prescribed by the Committee, which shall also include the correct mailing address of each signer. The petition shall not have been signed by a member at a date earlier than 30 days prior to the filing of the petition. It is the intent of this paragraph that a license shall not be granted to a club which is, or has been primarily formed or activated to obtain a license to sell liquor, but solely to a bona fide club, where the sale or liquor is incidental to the main purposes of the club.

4. Committee means the Government and Management Standing Committee, a committee of the Gila River Indian Community Council.

5. Community means the Gila River Indian Community.

6. Company or association when used in reference to a corporation includes successors or assigns.

7. Council means the Gila River Indian Community Council.

8. License means a license or an interim retail permit issued pursuant to the provisions of this title.

9. Off-sale retailer means any person operating a bona fide regularly established retail liquor store selling spirituous liquors, wines and beer, and any established retail store selling commodities other than spirituous liquors and engaged in the sale of spirituous liquors only in the original package, to be taken away from the premises of the retail and to be consumed off the premises.

10. On-sale retailer means any person operating an establishment where spirituous liquors are sold in the original container for consumption on or off the premises or in individual portions for consumption on the premises.

11. Premises or licensed premises means the area from which the licensee is authorized to sell, dispense, or serve spirituous liquors under the provisions of the license.

12. Person includes partnership, limited liability company, association, company, or corporation, as well as a natural person.

13. Reservation means the Gila River Indian Reservation, located in the counties of Maricopa and Pinal in the State of Arizona.

14. Sell includes soliciting and receiving an order for, keeping or exposing for sale, directly or indirectly delivering for value, peddling, or keeping with the intent to sell and trafficking in.

15. Spirituous liquor includes alcohol, brandy, whiskey, rum, tequila, mescal, gin, wine, porter, ale, beer, any malt liquor or beverage, absinthe, a compound or mixture of any of them with any vegetable or other substance, alcohol bitters, bitters containing alcohol, any liquid mixture or preparation, whether patented or otherwise, which produces intoxication, fruits preserved in ardent spirits, and beverages containing more than one-half of one percent of alcohol by volume.

16. Vehicle means any means of transportation by land, water, or air, and includes everything made us of in any way for such transportation.

17. Wine means the product obtained by the fermentation of grapes or other agricultural products containing natural or added sugar or any such alcoholic beverages fortified with grape brandy and containing not more than 24 percent alcohol by volume.

CHAPTER 2. JURISDICTION, LICENSING, AND EXEMPTIONS

14.201. Jurisdiction of Community Court.

The Gila River Indian Community Court is vested with original jurisdiction to hear and decide all matters arising pursuant to his article.

14.202. Liquor License Applications.

Liquor license applications shall be filed with the Government and Management Standing Committee of the Gila River Indian Community Council.

A. The Committee shall review all liquor license applications and provide the Community Council with a recommendation as to the disposition of the application. A spirituous liquor license shall be issued only after a satisfactory showing of the capability, qualifications and reliability of the applicant and, with the exception of club licenses, that the public convenience requires and that the best interests of the Community will be substantially served by the issuance.

B. All applications shall be referred to the District in which the applicant seeks to do business, except for applications in which the applicant will conduct business within the areas referenced in section 14.101.B., of this title, which do not require District approval.

C. License Issuance Contingent Upon Possession of Gila River Indian Community Business License. Any person or organized business entity that applies for a liquor license to manufacture, sell, or deal in spirituous liquors within the exterior boundaries of the Gila River Indian Reservation shall possess a Community Business License before being issued a liquor license.

D. License Issuance Contingent Upon Possession of Arizona Liquor License. Issuance of a Community Liquor License shall be contingent upon the applicant obtaining a liquor license of the same type from the Department of Liquor Licenses and Control of the State of Arizona.

14.203. Scope of Liquor License.

A license issued under this title shall permit the licensee to manufacture, sell, or deal in spirituous liquors only at the place and in the manner provided therein, and a separate license shall be issued for each specific business. Each license shall specify the:

A. Particular spirituous liquors which the licensee is authorized to manufacture, sell, or deal in.

B. Licensee's mailing and physical address and business or trade name.

C. Purpose for which the spirituous liquors shall be manufactured or sold.

14.204. Transfer of Liquor License.

No Community license shall be transferred without the prior written consent of the Gila River Indian Community Council.

14.205. Expiration of Liquor License.

Every license expires annually, measured from the date of issuance.

A. A licensee who fails to renew the license on or before the due date shall pay a penalty of $100.00 with their application for renewal.

B. A license renewal application that is deposited, properly addressed, and postage prepaid in an official depository of the United States mail on or before the due date shall be deemed filed and received by the Committee on the date shown by the postmark or other official mark of the United States Postal Service.

C. If the due date falls on a Saturday, Sunday, or other Community-recognized holiday, the renewal shall be deemed timely if received by the Committee on the next business day.

D. A licensee who fails to renew the license on or before the due date shall not sell, purchase, or otherwise deal in spirituous liquor until the license is renewed.

E. A license not renewed within 20 working days after the due date shall be deemed terminated.

14.206. Exemptions from License Requirement.

This title shall not apply to drugstores selling spirituous liquors only upon prescription or to ethyl alcohol used for the following purposes:

A. Scientific, chemical, mechanical, industrial, and medicinal purposes.

B. Use by those authorized to procure spirituous liquor or ethyl alcohol tax-fee, as provided by the acts of Congress and regulations promulgated thereunder.

C. In the manufacture of denatured alcohol produced and used as provided by the acts of Congress and regulations promulgated thereunder.

D. In the manufacture of patented, patent, proprietary, medicinal, pharmaceutical, antiseptic toilet, scientific, chemical, mechanical and industrial preparations or products, unfit and not used for beverage purposes.

E. In the manufacture of flavoring extracts and unfit for beverage purposes.

CHAPTER 3. LICENSE FEES

14.301. Disposition of License Fees and Fines.

All license fees and fines collected under this title shall be paid to the Community Treasurer's Office and deposited in the Gila River Indian Community's general fund, unless otherwise directed by Community Council resolution.

14.302. Fees for Liquor License.

All applications for liquor licenses shall include full payment of the fees described herein. Original license application fees shall be refunded to the applicant if the application is denied.

A. Application Fees For An Original Community License.

1. Distiller's, Brewer's, or Vintner's license: $100.00.

2. Wholesaler's license to sell spirituous liquors: $100.00.

3. On-sale retailer's license to sell all spirituous liquors in individual portions and in the original container: $100.00.

4. Off-sale retailer's license to sell all spirituous liquors: $100.00.

5. Club license issued in the name of a bona fide club qualified under this title to sell all liquors on-sale: $1,000.00.

6. Hotel-motel license issued as such to sell and serve spirituous liquors solely for consumption on the licensed premises of the hotel or motel: $1,000.00.

7. Restaurant license issued to sell and serve spirituous liquors solely for consumption on the licensed premises of the restaurant: $1,000.00.

B. Renewal Fees.

1. Distiller's, Brewer's, or Vintner's license: $300.00.

2. Wholesaler's license to sell all spirituous liquors: $250.00.

3. On-sale retailer's license to sell all spirituous liquors by individual portions and in the original containers: $150.00.

4. Off-sale retailer's license to sell all spirituous liquors: $50.00.

5. Hotel-motel license issued as such to sell and serve spirituous liquors solely for consumption on the licensed premises of the hotel or motel: $250.00.

6. Restaurant license issued to sell and serve spirituous liquors solely for consumption on the licensed premises of the restaurant: $250.00.

C. Transfer Fees. Licenses may be transferred to another licensee only on approval from the Community Council as stated in section 14.204 of this title.

1. Distiller or Brewer's license: $500.00.

2. Vintner's license: $300.00.

3. Wholesaler's license to sell all spirituous liquors: $200.00.

4. On-sale retailer's license to sell all spirituous liquors by individual portions and in the original containers: $300.00.

5. Off-sale retailer's license to sell all spirituous liquors: $100.00.

6. Site Transfer Fee. Persons or business organizations who wish to retain their license but transfer their business to another site may do so after paying a site transfer fee of $25.00.

D. Seasonal Business. Where the business of an on-sale retail licensee is seasonal, extending for periods of less than six months in a calendar year, the licensee may designate the periods of his operation and be granted a license for a period not to exceed six months. The fees for any license granted pursuant to this subsection shall be one-half of the fee listed in subsection 14.302.A., B., or C.

E. Licenses Issued After July 1. Any application, renewal, or transfer fee levied under this title after July 1 shall be reduced by one-half.

CHAPTER 4. ALCOHOL REGULATION

14.401. Registration of Stills.

A. Every person who possesses or otherwise exercises control of a still or distilling apparatus shall register it with the Committee under the rules and regulations the Committee may prescribe.

B. Every still or distilling apparatus not registered, and any mash, wort, or wash, for distillation or for the production of spirits or alcohol, and all finished products, together with all personal property in the possession or custody of, or under the control of any person which may be used in the manufacture or transportation of spirituous liquors which is found in the building, yard, or enclosure connected with the building in which the unregistered still or distilling apparatus is located, shall be forfeited to the Community.

C. The still, distilling apparatus, mash, wort, wash or finished products shall forthwith be destroyed by an agency of the Committee, or other peace officer, and all personal property forfeited to the Committee shall be sold at public auction to the highest bidder for cash on five days' notice. Notice shall be posted at the Gila River Indian Community Court and at the District Service Center in the District where the still and associated personal property were seized. All publication and sale expenses shall be deducted from the sale proceeds and the balance will be paid into the Gila River Indian Community general fund.

14.402. Close of Business.

No on-sale licensee shall lock, or permit to be locked, any entrance of his licensed establishment until all persons other than the licensee and his employees have left the premises.

14.403. Change of Business or Trade Name; Permission Required.

No licensee shall change the name of his licensed business without first obtaining written permission from the Committee. No licensee shall use a name for his licensed business until that name has been approved in writing by the Committee. The licensee shall submit his license for change within 15 days of the written approval of the business or trade name change.

14.404. Liquor Containers.

A. No liquor bottle or other container authorized by the laws of the United States or any agency thereof shall be reused for the packaging of distilled spirits, nor shall the original contents, or any portion of such original contents, remaining in a liquor bottle or other such authorized container, be increased by the addition of any substance.

B. No licensee shall reuse, sell, or give away empty spirituous liquor bottles contrary to federal laws or regulations.

14.405. Licensee Recordkeeping Requirements.

All licensees shall retain, for a period of not less than two years, all invoices, records, bills, and other papers and documents relating to the purchase, sale, and delivery of alcoholic beverages. Such records and papers shall be kept in such condition as to be easily accessible to the Committee or authorized Community employee for audit or examination.

14.406. Emergency Closing of Premises.

A licensed place of business may be required to cease its operation and stop all sales of alcoholic beverages or allow any person on the premises, with the exception of peace officers, the licensee and his employees, during the time at which it appears to the Committee or any peace officer that violence might reasonably occur.

14.407. Disclosure of Interest in Liquor License; Requirements.

A. All persons having a legal or equitable interest in a spirituous liquor license shall file with the Committee a statement of such interest on a form prescribed and furnished by the Committee. Notice of termination of such interest shall be filed in writing by the interest holder upon final determination of the interest. Interest holders shall immediately file amended statements presently on file.

B. The Committee may periodically, by notice to the holders of interests filed under this regulation, require those interest holders to verify in writing to the Committee that the statement presently on file is correct and accurate and, if not, such interest holder shall immediately file an amended statement or termination notice. If no response is received by the Committee within 30 days of the mailing of such notice, the interest shall be deemed terminated.

C. All persons having filed statements of interest in accordance with this regulation and the statute shall be given notice of all matters and/or action affecting or regarding the spirituous liquor license in which they have an interest. Notice shall be effected by mailing a copy thereof by registered or certified mail in a sealed envelope with postage prepaid and addressed to such person as his address as shown by the statement on file with the Committee. Service of such notice shall be complete when deposited in the United States mail.

D. All interest holders who are entitled to receive notice as provided hereinabove shall have the right to appear and participate in person and through counsel in any hearing held before the Committee affecting the subject spirituous liquor license as his interests may appear.

E. The statement of legal or equitable interest shall allow the person filing said statement to participate in the proceedings and shall not in any manner bind the Community concerning the matter under consideration.

14.408. Unlawful Acts.

It is unlawful:

A. For any person, whether as principal or agent, clerk or employee, whether for himself, or for any other person, or for any body corporate, or as officer of any corporation, or as a member of any firm or co-partnership or otherwise to buy for resale, sell or deal in spirituous liquors on and within the exterior boundaries of the Gila River Indian Reservation, Arizona, without first obtaining all necessary federal and state licenses including, but not restricted to a federal license to trade with the Indians issued pursuant to Title 25, Code of Federal Regulations, and a valid license issued by the Gila River Indian Community.

B. For a person to sell or deal in alcohol for beverage purposes without first complying with the provisions of this title.

C. For a distiller, vintner, brewer or wholesaler to sell, dispose of or give spirituous liquor to any persons other than a licensee, except in sampling wares as may be necessary in the ordinary course of business.

D. For a distiller, vintner or brewer to require a wholesaler to offer or grant a discount to a retailer, unless the discount has also been offered and granted to the wholesaler by the distiller, vintner or brewer.

E. For a distiller, vintner or brewer to use a vehicle for trucking or transportation of spirituous liquors unless there is affixed to both sides of the vehicle a sign showing the name and address of the licensee and the type and number of his license in letters not less than three and one-half inches in height.

F. For a person to take or solicit orders for spirituous liquors unless he is a registered salesman or solicitor of a licensed wholesaler or a registered salesman or solicitor of distillery, vintner, brewery, importer or broker.

G. For any retail licensee to purchase spirituous liquor from any person other than a registered solicitor or salesman of a wholesaler licensed by the State of Arizona and the Community.

H. For a retailer to acquire an interest in property owned, occupied or used by a wholesaler in his business, or in a license with respect to the premises of the wholesaler.

I. Except as provided in subsections 14.408.J. and 14.408.K. of this section, for a licensee or other person to sell, furnish, dispose of or give, or cause to be sold, furnished, disposed of or given, to a person under the legal drinking age or for a person under the legal drinking age to buy, receive, have in the person's possession or consume spirituous liquor. This paragraph shall not prohibit the employment by an off-sale retailer of persons who are at least 16 years of age to check out, if supervised by a person on the premises who is at least 19 years of age, package or carry merchandise, including spirituous liquor, in unbroken packages, for the convenience of the customer of the employer, if the employer sells primarily merchandise other than spirituous liquor.

J. For a licensee to employ a person under the age of 19 years to manufacture, sell or dispose of spirituous liquors. This paragraph shall not prohibit the employment by an off-sale retailer of persons who are at least 16 years of age to check out, if supervised by a person on the premises who is at least 19 years of age, package or carry merchandise, including spirituous liquor, in unbroken packages, for the convenience of the customer of the employer, if the employer sells primarily merchandise other than spirituous liquor.

K. For an on-sale retailer to employ a person under the age of 19 years in any capacity connected with the handling of spirituous liquors. This paragraph does not prohibit the employment by an on-sale retailer of a person under the age of 19 years who cleans up the tables on the premises for reuse, removes dirty dishes, keeps a ready supply of needed items and helps clean up the premises.

L. For a licensee, when engaged in waiting on or serving customers, to consume spirituous liquor or remain on or about the premises while in an intoxicated or disorderly condition.

M. For an employee of a licensee, during that employee's working hours or in connection with such employment, to give to or purchase for any other person, accept a gift of, purchase for himself or consume spirituous liquor.

N. For a licensee or other person to serve, sell or furnish spirituous liquor to an intoxicated or disorderly person, or for a licensee or employee of the licensee to allow or permit an intoxicated or disorderly person to come into or remain in or about the premises.

O. For an on-sale or off-sale retailer or an employee of such retailer to sell, dispose of, deliver or give spirituous liquor to a person between the hours of 2:00 a.m. and 6:00 a.m.

P. For a licensee or employee to knowingly permit any person on or about the licensed premises to give or furnish any spirituous liquor to any person under the age of 21 or knowingly permit any person under the age of 21 to have in the person's possession spirituous liquor on the licensed premises.

Q. For an on-sale retailer or an employee of such retailer to allow a person to consume or possess spirituous liquors on the premises between the hours of 2:30 a.m. and 6:00 a.m.

R. For an on-sale retail licensee to employ a person for the purpose of soliciting the purchase of spirituous liquors by patrons of the establishment for themselves, on a percentage basis or otherwise, and no licensee shall serve employees or allow a patron of the establishment to give spirituous liquor to, or to purchase liquor for or drink liquor with, any employee.

S. For an off-sale retailer to sell spirituous liquors except in the original container, to permit spirituous liquor to be consumed on the premises, or to sell spirituous liquor in a container having a capacity of less than eight ounces, or for an on-sale retailer to sell spirituous liquor for consumption off the premises in the container having a capacity of less than eight ounces.

T. For a person to consume spirituous liquor from a broken package in a public place, thoroughfare or gathering, and the license of a licensee permitting a violation of this paragraph on the premises shall be subject to revocation. This paragraph shall not apply to sale of spirituous liquors on the premises of and by an on-sale retail licensee.

U. For a person to have possession of or to transact spirituous liquor which is manufactured in a distillery, winery, brewery, or rectifying plant contrary to the laws of the United States and any property used in transporting such spirituous liquor shall be forfeited to the Community and shall be seized and disposed of by the Gila River Indian Community Police Department.

V. For a licensee or employee to fail or refuse to make the premises or records available for inspection and examination as provided in this title or to comply with a lawful subpoena issued either by the State of Arizona or the Gila River Indian Community under state or Community law.

CHAPTER 5. VIOLATIONS, APPEALS AND LICENSE PROCEEDINGS

14.501. Violations; Penalties; Revocation.

Any person or licensee who is fined under this title or who has had their license suspended or revoked may appeal such action to the Committee. Upon receipt of said appeal, the Committee shall set a date to hear the appeal. The Committee shall hear such evidence as the appellant, Community, and other interested parties may offer, and render its decision at the conclusion of such hearing.

A. Unlawful Acts. Any person or licensee who violates any enumerated provision of section 14.408 shall be fined $500.00. In the event of multiple violations, the Committee may levy one fine per violation or may levy a single $500.00 fine.

B. Licensees. The Committee may revoke the license of any licensee who violates any provision of this title.

14.502. Appeal.

The Committee's decision may be appealed to the Gila River Indian Community Court, provided that the appeal is duly filed within 20 working days of the Committee's decision.

14.503. Effect of Suspension or Revocation of State License.

A. All licensees shall comply with the laws of the United States and the State of Arizona governing the manufacture and sale of spirituous liquor.

B. Any suspension or revocation of an Arizona-issued liquor license shall automatically take effect against a licensee's Gila River Indian Community-issued license.

C. Notwithstanding the appeal process described in sections 14.501 and 14.502, no appeal shall be permitted for any Community-issued license suspended or revoked under subsection 14.503.2.

14.504. Effective Date.

In accordance with 18 U.S.C. 1161 (2005), this title shall be effective on the date upon which, after having been certified by the Secretary of the Interior, it is published in the Federal Register.

[FR Doc. 2015-30001 Filed 11-25-15; 8:45 am]

BILLING CODE 4337-15-P